DEPARTMENT OF COMMERCE

International Trade Administration

[A-552-802]

Certain Frozen Warmwater Shrimp From the Socialist Republic of Vietnam: Final Results and Final Partial Rescission of Antidumping Duty Administrative Review

AGENCY: Import Administration, International Trade Administration, Department of Commerce.

SUMMARY: On March 4, 2011, the Department of Commerce (“Department”) published the Preliminary Results of the fifth administrative review of the antidumping duty order on certain frozen warmwater shrimp (“shrimp”) from the Socialist Republic of Vietnam (“Vietnam”).¹ We gave interested parties an opportunity to comment on the Preliminary Results and, based upon our analysis of the comments and information received, we made changes to the margin calculations for the final results of this review. The final weighted-average margins are listed below in the “Final Results of the Review” section of this notice. The period of review (“POR”) is February 1, 2009, through January 31, 2010.

¹ See Certain Frozen Warmwater Shrimp From the Socialist Republic of Vietnam: Preliminary Results, Partial Rescission, and Request for Revocation, In Part, of the Fifth Administrative Review, 76 FR 12054 (March 4, 2011) (“Preliminary Results”).

DATES: Effective Date: September 12, 2011.

FOR FURTHER INFORMATION CONTACT: Susan Pulongbarit, Paul Walker, or Jerry Huang, AD/CVD Operations, Office 9, Import Administration, International Trade Administration, U.S. Department of Commerce, 14th Street and Constitution Avenue, NW., Washington, DC 20230; telephone: (202) 482-4013, (202) 482-0413, or (202) 482-4047, respectively.

SUPPLEMENTARY INFORMATION:

Case History

As noted above, on March 4, 2011, the Department published the Preliminary Results of this administrative review. Between March 9, 2011, and March 31, 2011, the Department requested that Camimex, Minh Phu Seafood Corporation (and its affiliates Minh Qui Seafood Co., Ltd., and Minh Phat Seafood Co., Ltd.) (collectively “the Minh Phu Group”), and Nha Trang Seaproduct Company (and its affiliates, NT Seafoods Corporation, Nha Trang Seafoods—F.89 Joint Stock Company, and NTSF Seafoods Joint Stock Company) (collectively, “Nha Trang Seafoods Group”) (hereinafter collectively “mandatory respondents”), submit publicly ranged quantities of their reported U.S. transactions. On March 14, 2011, through April 1, 2011, the mandatory respondents submitted the publicly ranged quantities of their reported U.S. transactions to the Department.

On March 24, 2011, the Department received post-Preliminary Results surrogate value information to value factors of production (“FOP”) for the final results from the Petitioners,² the Processors,³ and the Respondents.⁴ On April 4, 2011, the Department received information to rebut the post-Preliminary Results surrogate value information from the Processors.

² This includes the Ad Hoc Shrimp Trade Action Committee (“Petitioners”).

³ This includes the American Shrimp Processors Association (“ASPA”) and Louisiana Shrimp Association (“LSA”) (collectively, “Processors”).

⁴ This includes: the mandatory respondents, Bac Lieu Fisheries Joint Stock Company, Ca Mau Seafood Joint Stock Company, Can Tho Agricultural and Animal Products Imex Company, Cuulong Seaproducts Company, Danang Seaproducts Import Export Corporation, Investment Commerce Fisheries Corporation, Minh Hai Export Frozen Seafood Processing Joint Stock Company, Cadovimex Seafood Import- Export and Processing Joint Stock Company, Minh Hai Joint-Stock Seafoods Processing Company, Nha Trang Fisheries Joint Stock Company, Phu Cuong Jostoco Corp., Phuong Nam Foodstuff Corp., Soc Trang Seafood Joint Stock Company, Thuan Phuoc Seafoods and Trading Corporation and UTXI Aquatic Products Processing Corporation (collectively, “Respondents”).

The Department invited interested parties to comment on the Preliminary Results. Between April 4, 2011, and April 25, 2011, the Department received case and rebuttal briefs from the Petitioners, the Processors, the Respondents, and CamRanh/Contessa.5 6 On June 22, 2011, the Department extended the time limit for completion of the final results of this administrative review until August 16, 2011.⁷ On June 23, 2011, following the Court of Appeals for the Federal Circuit's decision in Dorbest,⁸ the Department invited comments from parties regarding the Department's wage rate methodology.⁹ Between July 7, 2011, and July 15, 2011, the Department received labor wage rate comments and rebuttals from Petitioners, Processors, and certain Vietnamese Respondents. As a result of our analysis, the Department has made changes to the Preliminary Results. On August 11, 2011, the Department extended the time limit for completion of the final results of this administrative review until August 31, 2011.¹⁰

⁵ CamRanh and Contessa Premium Foods Inc., hereafter referred to as “CamRanh/Contessa.”

⁶ Case briefs were not submitted by Viet Hai Seafood Co., Ltd., et al. or Amanda Foods.

⁷ See Certain Frozen Warmwater Shrimp From the Socialist Republic of Vietnam: Extension of Final Results of Antidumping Duty Administrative Review, 76 FR 36519 (June 22, 2011).

⁸ See Dorbest Limited v. United States, 604 F.3d 1363, 1372 (Fed. Cir. 2010) (“Dorbest”).

⁹ See Letter to All Interested Parties, From Paul Walker, Regarding 2009-2010 Antidumping Duty administrative Review of Certain Frozen Warmwater Shrimp from the Socialist Republic of Vietnam, dated June 23, 2011.

¹⁰ See Certain Frozen Warmwater Shrimp From the Socialist Republic of Vietnam: Extension of Time Limit for Final Results of Antidumping Duty Administrative Review, 76 FR 49729 (August 11, 2011).

Scope of the Order

The scope of the order includes certain warmwater shrimp and prawns, whether frozen, wild-caught (ocean harvested) or farm-raised (produced by aquaculture), head-on or head-off, shell-on or peeled, tail-on or tail-off,¹¹ deveined or not deveined, cooked or raw, or otherwise processed in frozen form.

¹¹ “Tails” in this context means the tail fan, which includes the telson and the uropods.

The frozen warmwater shrimp and prawn products included in the scope of this order, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations (including dusted shrimp), which are not “prepared meals,” that contain more than 20 percent by weight of shrimp or prawn are also included in the scope of the order. Excluded from the scope are: (1) Breaded shrimp and prawns (HTS subheading 1605.20.1020); (2) shrimp and prawns generally classified in the Pandalidae family and commonly referred to as coldwater shrimp, in any state of processing; (3) fresh shrimp and prawns whether shell-on or peeled (HTS subheadings 0306.23.0020 and 0306.23.0040); (4) shrimp and prawns in prepared meals (HTS subheading 1605.20.0510); (5) dried shrimp and prawns; (6) canned warmwater shrimp and prawns (HTS subheading 1605.20.1040); and (7) certain battered shrimp. Battered shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. When dusted in accordance with the definition of dusting above, the battered shrimp product is also coated with a wet viscous layer containing egg and/or milk, and par-fried.

The products covered by the order are currently classified under the following HTS subheadings: 0306.13.0003, 0306.13.0006, 0306.13.0009, 0306.13.0012, 0306.13.0015, 0306.13.0018, 0306.13.0021, 0306.13.0024, 0306.13.0027, 0306.13.0040, 1605.20.1010, and 1605.20.1030. These HTS subheadings are provided for convenience and for customs purposes only and are not dispositive, but rather the written description of the scope of the order is dispositive.

Analysis of Comments Received

All issues raised in the case and rebuttal briefs by parties are addressed in “Fifth Administrative Review of Certain Frozen Warmwater Shrimp from the Socialist Republic of Vietnam: Issues and Decision Memorandum for the Final Results,” (August 31, 2011) (“I&D Memo”). A list of the issues which parties raised, and to which the Department responded in the I&D Memo, is attached to this notice as an Appendix. The I&D Memo is a public document and is on file in the Central Records Unit (“CRU”), main Commerce Building, Room 7046, and is accessible on the Department's Web site at http://www.trade.gov/ia. The paper copy and electronic version of the memorandum are identical in content.

Changes Since the Preliminary Results

Based on a review of the record and comments received from interested parties regarding our Preliminary Results, the Department has made certain revisions to the margin calculation for Camimex, the Nha Trang Seafoods Group, and the Minh Phu Group. For further analysis of these revisions, see the I&D Memo and company specific analysis memoranda. For changes to the surrogate values, see the I&D Memo and “Memorandum to the File, through Scot T. Fullerton, Program Manager, AC/CVD Operations, Office 9, from Jerry Huang, International Trade Analyst, AD/CVD Operations, Office 9, Fifth Antidumping Duty Administrative Review of Certain Frozen Warmwater Shrimp from the Socialist Republic of Vietnam: Surrogate Values for the Final Results,” (August 31, 2011).

Final Partial Rescission

In the Preliminary Results, the Department preliminarily rescinded the review with respect to Gallant Ocean (Vietnam) Co., Ltd., Kien Cuong Seafood Processing Import Export Joint-Stock Company, Quoc Viet Seaproducts Processing Trading Import and Export Co., Ltd., Viet Hai Foods Co., Ltd. and its branch Nam Hai Foodstuff and Export Company Ltd.,¹² Vinh Loi Import Export Company, and Vinh Hoan Corporation. These companies reported that they had no shipments of subject merchandise to the United States during the POR. As stated in the Preliminary Results, the Department's examination of shipment data from U.S. Customs and Border Protection (“CBP”) for these companies confirmed that there were no entries of subject merchandise from them during the POR.¹³ The Department did not receive any comments regarding the preliminary rescission of these companies. Therefore, the Department is rescinding the administrative review with respect to these companies.

¹² We note that Viet Hai Foods Co., Ltd. and its branch Nam Hai Foodstuff and Export Company Ltd. were inadvertently included in the “Preliminary Results of Review Section” of the Preliminary Results.

¹³ See Preliminary Results, 76 FR at 12055.

Separate Rates

In proceedings involving NME countries, it is the Department's practice to begin with a rebuttable presumption that all companies within the country are subject to government control and thus should be assessed a single antidumping duty rate. See Separate Rates and Combination Rates in Antidumping Investigations involving Non-Market Economy Countries, 70 FR 17233 (April 5, 2005); see also Notice of Final Determination of Sales at Less Than Fair Value, and Affirmative Critical Circumstances, In Part: Certain Lined Paper Products From the People's Republic of China, 71 FR 53079, 53080 (September 8, 2006); and Final Determination of Sales at Less Than Fair Value and Final Partial Affirmative Determination of Critical Circumstances: Diamond Sawblades and Parts Thereof from the People's Republic of China, 71 FR 29303, 29307 (May 22, 2006).

In our Preliminary Results, we determined that, in addition to the mandatory respondents, the following 27 companies met the criteria for separate rate status: Amanda Foods (Vietnam) Limited; Bac Lieu Fisheries Joint Stock Company; C.P. Vietnam Livestock Corporation; Cafatex Fishery Joint Stock Corporation, aka Cafatex Corp.; Cadovimex Seafood Import-Export and Processing Joint Stock Company, aka CADOVIMEX-VIETNAM; Ca Mau Seafood Joint Stock Company, aka Seaprimexco Vietnam; Camranh Seafoods and Branch of Cam Ranh; Can Tho Import Export Fishery Limited Company, aka CAFISH; CATACO Sole Member Limited Liability Company, aka CATACO; Coastal Fisheries Development Corporation, aka COFIDEX; Cuulong Seaproducts Company, aka Cuulong Seapro; Danang Seaproducts Import Export Corporation, aka Seaprodex Danang and its branch Tho Quang Seafood Processing and Export Company; Grobest & I-Mei Industrial Vietnam Co., Ltd., aka Grobest; Investment Commerce Fisheries Corporation, aka INCOMFISH; Kim Anh Company, Limited; Minh Hai Export Frozen Seafood Processing Joint Stock Company, aka Minh Hai Jostoco; Minh Hai Joint-Stock Seafoods Processing Company, aka Seaprodex Minh Hai; Ngoc Sinh Private Enterprise and its branch, Ngoc Sinh Seafoods Processing and Trading Enterprise, aka Ngoc Sinh Seafoods; Nhat Dhuc Co., Ltd.; Nha Trang Fisheries Joint Stock Company, aka Nha Trang Fisco; Phu Cuong Jostoco Seafood Corporation; Phuong Nam Foodstuff Corp., aka Phuong Nam Co., Ltd.; Sao Ta Foods Joint Stock Company, aka FIMEX VN; Soc Trang Seafood Joint Stock Company, aka STAPIMEX; Thuan Phuoc Seafoods and Trading Corporation; UTXI Aquatic Products Corporation, aka UTXICO; and Viet Hai Seafood Co., Ltd., a/k/a Vietnam Fish One Co., Ltd. The Department has not received any information since the issuance of the Preliminary Results that provides a basis for reconsideration of this treatment. Therefore, the Department continues to find that the above-named companies meet the criteria for a separate rate.

Separate Rate Calculation

The separate rate is determined based on the estimated weighted-average antidumping margins established for exporters and producers individually investigated, excluding zero and de minimis margins or margins based entirely on facts available.14 15 We note that it is the Department's practice to calculate the rate based on the average of the margins calculated for those companies selected for individual review, weighted by each company's publicly-ranged quantity of reported U.S. transactions.¹⁶ Due to requests to protect business proprietary information, we were unable to apply our normal methodology of calculating a weighted-average margin in the Preliminary Results, and instead calculated a simple average.¹⁷ Since the Preliminary Results, the Department has obtained publicly-ranged quantities of reported U.S. transactions. Therefore, for these final results, the Department has assigned to the separate rate respondents a weighted-average of the Minh Phu Group and Camimex's margin to the companies not selected for individual examination.

¹⁴ See e.g.. First Administrative Review of Steel Wire Garment Hangers From the People's Republic of China: Final Results and Final Partial Rescission of Antidumping Duty Administrative Review, 76 FR 27994 (May 13, 2011).

¹⁵ See I&D Memo at Comment 4.

¹⁶ See Ball Bearings and Parts Thereof From France, et al.: Final Results of Antidumping Duty Administrative Reviews, Final Results of Changed-Circumstances Review, and Revocation of an Order in Part, 75 FR 53661, 53663 (Sept. 1, 2010).

¹⁷ See Preliminary Results, 76 FR at 12058.

Vietnam-Wide Entity

In the Preliminary Results the Department treated certain Vietnamese exporters/producers as part of the Vietnam-wide entity because they did not demonstrate that they operate free of government control.¹⁸ Since the Preliminary Results, the Department has received comments noting that several companies were incorrectly included in the Vietnam-wide entity.¹⁹ As discussed in the I&D Memo, the Department inadvertently included certain company names in the Vietnam-wide entity.²⁰ For the final results, the Department has updated the list indicating which companies are to be included in the Vietnam-wide entity.²¹ No additional information was placed on the record with respect to the remaining 41 companies after the Preliminary Results. Because the Department begins with the presumption that all companies within a NME country are subject to government control, and because only the companies listed under the “Final Results of Review” section below have overcome that presumption, the Department is applying a single antidumping rate, i.e., the Vietnam-wide entity rate, to all other exporters of subject merchandise from Vietnam. The Vietnam-wide rate applies to all entries of the merchandise under consideration, except for those from companies which have received a separate rate.

¹⁸ See Preliminary Results at Attachment I.

¹⁹ See I&D Memo at Comment 7.

²⁰ See Id.

²¹ See I&D Memo at Appendix II.

Revocation

In the Preliminary Results, the Department noted that four companies ²² requested revocation pursuant to 19 CFR 351.222. Also, in the Preliminary Results, the Department denied these requests for revocation. The Department has not received any information since the issuance of the Preliminary Results that provides a basis for reconsideration of this treatment. For the final results we have continued to deny these companies' revocation requests.

²² Camimex, Grobest & I-Mei Industrial (Vietnam) Co., Ltd. (“Grobest”) and Phuong Nam Foodstuff Corp. (“Phuong Nam”) (collectively, the “revocation companies”).

Final Results of the Review

The weighted-average dumping margins for the POR are as follows:

Exporter | Margin (percent)
Camau Frozen Seafood Processing Import Export Corporation (“CAMIMEX”) aka
Camimex aka
Camau Seafood Factory No. 4 aka
Camau Seafood Factory No. 5 aka
Camau Frozen Seafood Processing Import & Export aka
Camau Frozen Seafood Processing Import Export Corp. (CAMIMEX-FAC 25) aka
Frozen Factory No. 4 aka
Camau Frozen Seafood Processing Import Export Corporation | 0.83
Minh Phu Group:
Minh Phat Seafood Co., Ltd. aka
Minh Phat Seafood aka
Minh Phu Seafood Export Import Corporation (and affiliates Minh Qui Seafood Co., Ltd. and Minh Phat Seafood Co., Ltd.) aka
Minh Phu Seafood Corp. aka
Minh Phu Seafood Corporation aka
Minh Qui Seafood aka
Minh Qui Seafood Co., Ltd. aka
Minh Phu Seafood Pte aka
Minh Phat aka
Minh Qui | 1.15
Nha Trang Seafoods Group:
Nha Trang Seaproduct Company (“Nha Trang Seafoods”) aka
Nha Trang Seaproduct Company
Nha Trang Seafoods aka
Nha Trang Seaproduct Company Nha Trang Seafoods aka
NT Seafoods Corporation (“NT Seafoods”) aka
Nha Trang Seafoods—F.89 Joint Stock Company (“Nha Trang Seafoods—F.89”) aka
NTSF Seafoods Joint Stock Company (“NTSF Seafoods”) | de minimus
Amanda Foods (Vietnam) Limited (“Amanda Foods”) | 1.04
Bac Lieu Fisheries Joint Stock Company aka
Bac Lieu Fisheries Company Limited (“Bac Lieu”) aka
Bac Lieu Fisheries Company Limited aka
Bac Lieu Fisheries Limited Company aka
Bac Lieu Fisheries Company Limited aka
Bac Lieu Fis aka
Bac Lieu Co. Ltd. aka
Bac Lieu Fisheries aka
Bac Lieu Fisheries Co. Ltd | 1.04
C.P. Vietnam Livestock Company Limited aka
C.P. Vietnam Livestock Corporation (“C.P. Vietnam”) aka
C.P. Vietnam Livestock Corporation aka
C.P. Vietnam Livestock Co. Ltd. Aka
CP Livestock | 1.04
Cadovimex Seafood Import-Export and Processing Joint Stock Company (“CADOVIMEX-VIETNAM”) aka
Cadovimex-Vietnam aka
Cai Doi Vam Seafood Import-Export Company (“Cadovimex”) aka
Cai Doi Vam Seafood Import-Export Company (Cadovimex) aka
Cai Doi Vam Seafood aka
Cai Doi Vam Seafood Im-Ex Company (Cadovimex) aka
Cai Doi Vam Seafood Processing Factory aka
Caidoivam Seafood Company (Cadovimex) aka
Caidoivam Seafood Im-Ex Co. aka
Cadovimex Seafood Import-Export and Processing Joint Stock Company aka
Cai Doi Vam Seafood Import-Export Company aka
Cadovimex | 1.04
Cafatex Fishery Joint Stock Corporation (“Cafatex Corp.”) aka
Cafatex Fishery Joint Stock Corporation (“CAFATEX CORP.”) aka
Cantho Animal Fisheries Product Processing Export Enterprise (Cafatex) aka
Cafatex aka
Cafatex Vietnam aka
Xi Nghiep Che Bien Thuy Suc San Xuat Kau Cantho aka
Cas aka
Cas Branch aka
Cafatex Saigon aka
Cafatex Fishery Joint Stock Corporation aka
Cafatex Corporation aka
Taydo Seafood Enterprise aka
Cafatex Corp. aka
Cafatex Corporation | 1.04
Cam Ranh Seafoods Processing Enterprise Pte aka
Cam Ranh Seafoods Processing Enterprise Company (“Camranh Seafoods”) aka
Camranh Seafoods aka
Branch of Camranh Seafoods Processing Enterprise Pte—Quang Ninh Seaproduct Factory aka
Quang Ninh Seaproduct Factory (Camranh Seafoods' Branch) | 1.04
CATACO Sole Member Limited Liability Company
Can Tho Agricultural and Animal Products Import Export Company (“CATACO”) aka
Can Tho Agricultural and Animal Product Import Export Company (“CATACO”) aka
Can Tho Agricultural Products aka
CATACO aka
Can Tho Agricultural and Animal Products Imex Company | 1.04
Can Tho Import Export Fishery Limited Company (“CAFISH”) | 1.04
Coastal Fishery Development aka
Coastal Fisheries Development Corporation (“Cofidec”) aka
Coastal Fisheries Development Corporation (Cofidec) aka
COFIDEC aka
Coastal Fisheries Development Corporation aka
Coastal Fisheries Development Co. aka
Coastal Fisheries Development Corp | 1.04
Cuulong Seaproducts Company (“Cuu Long Seapro”) aka
Cuu Long Seaproducts Limited (“Cuulong Seapro”) aka
Cuulong Seapro aka
Cuulong Seaproducts Company (“Cuulong Seapro”) aka
Cuu Long Seaproducts Company (“Cuu Long Seapro”) aka
Cuu Long Seaproducts Company aka
Cuu Long Seapro aka
Cuulong Seaproducts Company (“Cuu Long Seapro”) aka
Cuu Long Seaproducts Limited (Cuulong Seapro) aka
Cuulong Seapro aka
Cuulong Seaproduct Company aka
Cuulong Seaproducts Company | 1.04
Danang Sea Products Import Export Corporation aka
Danang Seaproducts Import Export Corporation (“Seaprodex Danang”) aka
Danang Seaproducts Import Export Corporation aka
Danang Seaproduct Import-Export Corporation aka
Danang Seaproducts Import Export aka
Tho Quang Seafood Processing & Export Company aka
Seaprodex Danang aka
Tho Quang Seafood Processing and Export Company aka
Tho Quang aka
Tho Quang Co | 1.04
Grobest & I-Mei Industrial Vietnam aka
Grobest aka
Grobest & I-Mei Industrial (Vietnam) Co., Ltd. aka
Grobest & I-Mei Industrial (Vietnam) Co., Ltd. (“Grobest”) aka
Grobest & I-Mei Industry Vietnam | 1.04
Investment Commerce Fisheries Corporation (“Incomfish”) aka
Incomfish aka
Investment Commerce Fisheries Corp. aka
Incomfish Corp. aka
Incomfish Corporation aka
Investment Commerce Fisheries aka
Investment Commerce Fisheries Corporation aka
Incomfish Corporation | 1.04
Kim Anh Company Limited (“Kim Anh”) | 1.04
Minh Hai Export Frozen Seafood Processing Joint Stock Company aka
Minh Hai Jostoco aka
Minh Hai Export Frozen Seafood Processing Joint-Stock Company (“Minh Hai Jostoco”) aka
Minh Hai Export Frozen Seafood Processing Joint Stock Company (“Minh Hai Jostoco”) aka
Minh Hai Export Frozen Seafood Processing Joint-Stock Company aka
Minh Hai Joint Stock Seafood Processing Joint-Stock Company aka
Minh Hai Export Frozen Seafood Processing Joint-Stock Co., aka
Minh-Hai Export Frozen Seafood Processing Joint-Stock Company | 1.04
Minh Hai Joint-Stock Seafoods Processing Company (“Seaprodex Minh Hai”) aka
Sea Minh Hai aka
Minh Hai Joint-Stock Seafoods Processing Company aka
Seaprodex Minh Hai aka
Seaprodex Min Hai aka
Seaprodex Minh Hai (Minh Hai Joint Stock Seafoods Processing Co.) aka
Seaprodex Minh Hai Factory aka
Seaprodex Minh Hai Factory No. 69 aka
Seaprodex Minh Hai Workshop 1 aka
Seaprodex Minh Hai-Factory No. 78 aka
Workshop I Seaprodex Minh Hai | 1.04
Minh Hai Sea Products Import Export Company (“Seaprimex Co”) aka
Minh Hai Sea Products Import Export Company (Seaprimex Co) aka
Ca Mau Seafood Joint Stock Company (“SEAPRIMEXCO”) aka
Seaprimexco Vietnam aka
Seaprimexco aka
Ca Mau Seafood Joint Stock Company (“Seaprimexco”) aka
Minh Hai Seaproducts Import Export Corporation aka
Seaprimexco aka
Minh Hai Seaproducts Co Ltd. (Seaprimexco) aka
Ca Mau Seafood Joint Stock Company (“Seaprimexco Vietnam”) | 1.04
Ngoc Sinh Private Enterprise aka
Ngoc Sinh Seafoods aka
Ngoc Sinh Seafoods Processing and Trading Enterprise aka
Ngoc Sinh Fisheries aka
Ngoc Sinh Private Enterprises aka
Ngoc Sinh Seafoods Processing and Trading Enterprises aka
Ngoc Sinh aka
Ngoc Sinh Seafood Processing Company aka
Ngoc Sinh Seafoods (Private Enterprise) | 1.04
Nhat Duc Co., Ltd. aka
Nhat Duc Co., Ltd. (“Nhat Duc”) | 1.04
Nha Trang Fisheries Joint Stock Company (“Nha Trang Fisco”) aka
Nha Trang Fisheries Joint Stock Company aka
Nhatrang Fisheries Joint Stock Company aka
Nha Trang Fisco aka
Nhatrang Fisco aka
Nha Trang Fisheries, Joint Stock aka
Nha Trang Fisheries Joint Stock Company (Nha Trang Fisco) | 1.04
Phu Cuong Jostoco Seafood Corporation aka
Phu Cuong Seafood Processing and Import-Export Co., Ltd. aka
Phu Cuong Seafood Processing and Import Export Company Limited aka
Phu Cuong Jostoco Corp | 1.04
Phuong Nam Co., Ltd. (“Phuong Nam”) aka
Western Seafood Processing and Exporting Factory (“Western Seafood”) aka
Phuong Nam Foodstuff Corp. aka
Phuong Nam Co. Ltd | 1.04
Sao Ta Foods Joint Stock Company (“Fimex VN”) aka
Sao Ta Foods Joint Stock Company aka
Fimex VN aka
Sao Ta Seafood Factory aka
Saota Seafood Factory | 1.04
Soc Trang Aquatic Products and General Import Export Company (“Stapimex”) aka
Soc Trang Seafood Joint Stock Company (“Stapimex”) aka
Soc Trang Seafood Joint Stock Company aka
Soc Trang Aquatic Products and General Import Export Company aka
Stapimex aka
Soc Trang Aquatic Products and General Import Export Company-(Stapimex) aka
Stapimex Soc Trans Aquatic Products and General Import Export Company aka
Stapmex | 1.04
Thuan Phuoc Seafoods and Trading Corporation aka
Thuan Phuoc aka
Frozen Seafoods Factory No. 32 aka
Frozen Seafoods Fty aka
Seafoods and Foodstuff Factory aka
My Son Seafoods Factory aka
Seafoods and Foodstuff Factory Vietnam | 1.04
UTXI Aquatic Products Processing Company aka
UT XI Aquatic Products Processing Company aka
UT-XI Aquatic Products Processing Company aka
UTXI aka
UTXI Co. Ltd. aka
Khanh Loi Seafood Factory aka
Hoang Phuong Seafood Factory aka
UTXI Aquatic Products Processing Corporation (“UTXICO”) aka
UTXI Aquatic Products Processing Corporation aka
UTXICO | 1.04
Viet Hai Seafood Co., Ltd. aka
Vietnam Fish One Co., Ltd. (“Fish One”) aka
Viet Hai Seafoods Company Ltd. (“Vietnam Fish One Co. Ltd.”) | 1.04
Vietnam-wide Entity | 25.76

Assessment

Upon issuance of the final results, the Department will determine, and CBP shall assess, antidumping duties on all appropriate entries. The Department intends to issue assessment instructions to CBP 15 days after the date of publication of the final results of review. Pursuant to 19 CFR 351.212(b)(1), the Department will calculate importer-specific (or customer) per unit duty assessment rates based on the ratio of the total amount of the dumping margins calculated for the examined sales to the total entered value of those same sales. The Department will instruct CBP to assess antidumping duties on all appropriate entries covered by this review if any importer-specific assessment rate is above de minimis.

Cash Deposit Requirements

The following cash-deposit requirements will be effective upon publication of the final results of this administrative review for all shipments of the subject merchandise entered, or withdrawn from warehouse, for consumption on or after the publication date, as provided for by section 751(a)(2)(C) of the Tariff Act of 1930, as amended (“the Act”): (1) For the exporters listed above, the cash deposit rate will be the rate established in these final results of review (except, if the rate is zero or de minimis, i.e., less than 0.5 percent, a zero cash deposit rate will be required for that company); (2) for previously investigated or reviewed Vietnamese and non-Vietnamese exporters not listed above that have separate rates, the cash deposit rate will continue to be the exporter-specific rate published for the most recent period; (3) for all Vietnamese exporters of subject merchandise which have not been found to be entitled to a separate rate, the cash deposit rate will be the Vietnamese-wide rate of 25.76 percent; and (4) for all non-Vietnamese exporters of subject merchandise which have not received their own rate, the cash deposit rate will be the rate applicable to the Vietnamese exporters that supplied that non-Vietnamese exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a final reminder to parties subject to administrative protective order (“APO”) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing this notice in accordance with sections 751(a)(1) and 777(i) of the Act.

Dated: August 31, 2011.
Ronald K. Lorentzen,
Deputy Assistant Secretary for Import Administration.

Appendix I—Issues & Decision Memorandum

Comment 1: Surrogate Country

Comment 2: Surrogate Values

A. Shrimp

B. Shrimp Conversion Ratio

C. Shrimp Count-size Error

D. Inclusion of Imports Specifying Bangladeshi Origin

E. Cartons

F. Purchased Ice

G. Water

H. Containerization

I. Labor

J. Financial Ratios

Comment 3: Zeroing

Comment 4: Separate Rate Companies

Comment 5: Changes to the Minh Phu Group Margin Program

A. Quantity

B. Marine Insurance

Comment 6: Customs Instructions

A. Corrections to Cash Deposit and Liquidation Instructions

B. Liquidation Instructions

Comment 7: Name Corrections for Certain Companies

[FR Doc. 2011-23278 Filed 9-9-11; 8:45 am]

BILLING CODE 3510-DS-P